DEPARTMENT OF JUSTICE

Notice of Lodging of Consent Decree Under the Comprehensive Environmental Response, Compensation, and Liability Act

Under 28 CFR 50.7, notice is hereby given that on May 5, 2009, a proposed Consent Decree in United States v. Emma B. Masset, 08 Civ. 6336 (SCR), was lodged with the United States District Court for the Southern District of New York.

The Consent Decree resolves the claims of the United States, on behalf of the Environmental Protection Agency (“EPA”) under sections 107 and 113 of the Comprehensive Environmental Response, Compensation, and Liability Act of 1980, as amended, 42 U.S.C. 9601 et seq. against defendant Emma B. Masset., relating to Westwood Chemical Corp. Superfund Site, located in Orange County, New York (the “Site”).

In a complaint filed on July 14, 2008, the United States alleged that Masset was an operator of the Westwood Chemical facility at the time of disposal of hazardous substances pursuant to section 107(a)(2) of CERCLA. Specifically, Masset was an operator of the facility from approximately 1998, when she became President of Westwood, until approximately January 2005, when Ms. Masset decided to abandon the facility following Westwood's October 2005 bankruptcy petition. According to the Complaint, during that time, hazardous substances including hydrochloric acid, sulfuric acid, mercury, lead, chromium, copper, zinc, silver, selenium and arsenic were disposed of at the Site. The Complaint sought unreimbursed costs incurred by the United States and a declaration of liability with respect to any future response costs.

Pursuant to the Consent Decree, Masset will pay the United States a total of $184,000, in three equal installments of $61,000 over a two-year period, to resolve her liability at the Site. The Department of Justice will receive for a period of thirty (30) days from the date of this publication comments relating to the Consent Decree. Comments should be addressed to the Assistant Attorney General, Environmental and Natural Resources Division, and either e-mailed to pubcomment-ees.enrd@usdoj.gov or mailed to P.O. Box 7611, U.S. Department of Justice, Washington, DC 20044-7611, and should refer to United States v. Emma Masset, D.J. #90-11-2-08602/2.

During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S. Treasury or, if by e-mail or fax, forward a check in that amount to the Consent Decree Library at the stated address.

Maureen Katz,
Assistant Section Chief Environmental, Enforcement Section, Environment and Natural Resources Division.

[FR Doc. E9-11132 Filed 5-12-09; 8:45 am]

BILLING CODE 4410-15-P